DEPARTMENT OF THE INTERIOR

Fish and Wildlife Service

50 CFR Part 17

[FWS-R9-ES-2010-0001; MO 92210-0-0010 B6]

Endangered and Threatened Wildlife and Plants; 90-Day Finding on a Petition To List the Peary Caribou and Dolphin and Union Population of the Barren-Ground Caribou as Endangered or Threatened

AGENCY: Fish and Wildlife Service, Interior.

ACTION: Notice of petition finding and initiation of status review.

SUMMARY: We, the U.S. Fish and Wildlife Service, announce a 90-day finding on a petition to list the Peary (Rangifer tarandus pearyi) and the Dolphin and Union population of the barren-ground (R. t. groenlandicus x pearyi) caribou as endangered or threatened under the Endangered Species Act of 1973, as amended (Act). Based on our review, we find that the petition presents substantial scientific and commercial information indicating that the petitioned action may be warranted. Therefore, with the publication of this notice, we are initiating a review of the status of these two subspecies to determine if listing these two subspecies is warranted. To ensure that this status review is comprehensive, we request scientific and commercial data and other information regarding these two subspecies. At the conclusion of this review, we will issue a 12-month finding on the petition, which will address whether the petitioned action is warranted, as provided in section 4(b)(3)(B) of the Act.

DATES: To allow us adequate time to conduct this review, we request that we receive information on or before June 6, 2011. After this date, you must submit information directly to the office listed in the FOR FURTHER INFORMATION CONTACT section below. Please note that we may not be able to address or incorporate information that we receive after the above requested date.

ADDRESSES: You may submit information by one of the following methods:

• Federal eRulemaking Portal: http://www.regulations.gov. Search for docket FWS-R9-ES-2010-0001 and then follow the instructions for submitting comments.

• U.S. mail or hand-delivery: Public Comments Processing, Attn: FWS-R9-ES-2010-0001; Division of Policy and Directives Management; U.S. Fish and Wildlife Service; 4401 N. Fairfax Drive, MS 2042-PDM; Arlington, VA 22203.

We will post all information received on http://www.regulations.gov. This generally means that we will post any personal information you provide us (see the Information Requested section below for more details).

FOR FURTHER INFORMATION CONTACT: Janine Van Norman, Chief, Branch of Foreign Species, Endangered Species Program, U.S. Fish and Wildlife Service, 4401 N. Fairfax Drive, Room 420, Arlington, VA 22203; telephone 703-358-2171; facsimile 703-358-1735. If you use a telecommunications device for the deaf (TDD), call the Federal Information Relay Service (FIRS) at 800-877-8339.

SUPPLEMENTARY INFORMATION:

Information Requested

When we make a finding that a petition presents substantial information indicating that listing a species or subspecies may be warranted, we are required to promptly review the status of the species (conduct a status review). For the status review to be complete and based on the best available scientific and commercial information, we request information on these two subspecies from governmental agencies (including Canadian national and provincial governments), local indigenous people of Canada (who also may be acknowledged as Native American or Aboriginal tribes), the scientific community, industry, and any other interested parties. We seek information on:

(1) Each subspecies' biology, range, and population trends, including:

(a) Habitat requirements for feeding, breeding, and sheltering;

(b) Genetics and taxonomy;

(c) Historical and current range including distribution patterns, particularly regarding their seasonal migrations;

(d) Historical and current population levels, and current and projected population trends;

(e) Potential threats to each subspecies such as mining, resource extraction, or other threats not identified; and

(f) Past and ongoing conservation measures for each subspecies or their habitat.

(2) The factors that are the basis for making a listing determination for a species or subspecies under section 4(a) of the Act (16 U.S.C. 1531 et seq.), which are:

(a) The present or threatened destruction, modification, or curtailment of their habitat or range;

(b) Overutilization for commercial, recreational, scientific, or educational purposes, particularly data on hunting;

(c) Disease or predation;

(d) The inadequacy of existing regulatory mechanisms; or

(e) Other natural or manmade factors affecting their continued existence.

(3) The potential effects of climate change on each subspecies and its habitat.

Please include sufficient information with your submission (such as full references) to allow us to verify any scientific or commercial information you include. Submissions merely stating support for or opposition to the action under consideration without providing supporting information, although noted, will not be considered in making a determination. Section 4(b)(1)(A) of the Act directs that determinations as to whether any species is an endangered or threatened species must be made “solely on the basis of the best scientific and commercial data available.”

You may submit your information concerning this status review by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding, will be available for you to review at http://www.regulations.gov, or you may make an appointment during normal business hours at the U.S. Fish and Wildlife Service, Endangered Species Program, Branch of Foreign Species (see FOR FURTHER INFORMATION CONTACT).

Background

Section 4(b)(3)(A) of the Act requires that we make a finding on whether a petition to list, delist, or reclassify a species presents substantial scientific or commercial information indicating that the petitioned action may be warranted. We are to base this finding on information provided in the petition, supporting information submitted with the petition, and information otherwise available in our files. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly review the status of the species, which is subsequently summarized in our 12-month finding.

In considering what factors might constitute threats, we look beyond the exposure of the species to determine whether the species responds to the factor in a way that causes actual impacts to the species and we look at the magnitude of the effect. If there is exposure to a factor, but no response, or only a beneficial response, that factor is not a threat. If there is exposure and the species responds negatively, the factor may be a threat and we then attempt to determine how significant the factor is. If the factor is significant, it may drive or contribute to the risk of extinction of the species such that the species warrants listing as threatened or endangered as those terms are defined by the Act. However, the identification of factors that could impact a species negatively may not be sufficient to compel a finding that the information in the petition is substantial. The information must include evidence sufficient to suggest that these factors may be operative threats that act on the species to the point that the species may meet the definition of endangered or threatened under the Act.

Petition History

On September 15, 2009, we received a petition (also dated September 15, 2009), from the International Fund for Animal Welfare (hereafter referred to as petitioner) requesting that two subspecies of barren-ground caribou (Rangifer tarandus) be listed as endangered or threatened under the Act. These two subspecies are the Peary caribou (R. t. pearyi) and the Dolphin and Union population of the barren-ground caribou (R. t. groenlandicus x pearyi). The petition clearly identified itself as such and included the requisite identification information as required by 50 CFR 424.14(a). The petition was amended on May 14, 2010, and the petitioner provided supplemental information to the original petition. We consider this amended petition, along with the previously submitted information, to be a new petition and the statutory timeframes to begin on May 14, 2010. This finding addresses the petition.

Species Information

Taxonomic Background

Banfield's 1961 taxonomic characterization listed nine subspecies of caribou (R. tarandus), two of which are now extinct. Peary caribou was first taxonomically described by J. A. Allen in 1902. The Dolphin and Union caribou was described in 1960 as R. t. groenlandicus x pearyi by Manning. Prior to 1979, Peary caribou (R. t. pearyi) and the Dolphin and Union caribou (R. t. groenlandicus x pearyi) were considered the same subspecies. In 1991, three populations of R. t. pearyi were recognized; Banks Island, High Arctic, and Low Arctic. In 2003, Zittlau et al. found (pp. 593-598) that the Dolphin and Union population of barren-ground caribou is genetically distinct from both Peary and mainland barren-ground caribou (R. t. groenlandicus). In 2004, the Committee on the Status of Endangered Wildlife in Canada (COSEWIC) recognized four populations of Peary caribou. We accept Peary caribou as a subspecies because of the genotypic and phenotypic evidence presented by COSEWIC (2004, p. 17).

Also in 2004, COSEWIC clarified that the Dolphin and Union population of the barren-ground caribou (R. t. groenlandicus x pearyi) is comprised of a portion of the former “Low Arctic population” of Peary caribou. Although most entities agree that the Dolphin and Union population is a valid subspecies, the taxonomic reclassification process can be slow, and the Dolphin and Union population has not yet been taxonomically reclassified. For the purpose of this finding, we consider the Dolphin and Union population of the barren-ground caribou to be a valid subspecies and treat it as such. Throughout this finding, we will refer to this subspecies as the Dolphin and Union caribou.

General Habitat Characteristics and Life History

Both subspecies live in an ecological grazing system in which abiotic factors such as snow, rain, and ice largely determine their fate (COSEWIC 2004, p. 54). Food shortages can have a significant effect on caribou populations in these ecosystems. In the winter of 1973-1974, both subspecies experienced a population crash—freezing rain created sheets of ice, forming a barrier that covered the caribou's food sources and subsequently caused mass starvation (Miller et al. 1977a in Miller and Gunn 2003, p. 2). Their nutrition is closely related to plant phenology (timing of plant blooming based on daylight and temperature). Seasonal feeding is critical for various life stages such as lactation and growth during the spring, increasing fat reserves during the summer, and simply surviving during the winter. Caribou generally migrate great distances in search of food; some herds travel significantly greater distances than others. The distance traveled likely depends on food availability (COSEWIC 2004, pp. 29-30). Caribou forage by pushing snow off the vegetation with their noses, but when snowpack is deeper, they will dig small craters in the snow to reach the vegetation (COSEWIC 2004, p. 35).

Peary Caribou

Description

With an average total body length of 1.7 meters (m) (5.6 feet (ft)), the Peary caribou is relatively small and short when compared to other caribou species (COSEWIC 2004, pp. 9-10).

Distribution and Population

Peary caribou are endemic to the Queen Elizabeth Islands in northeastern Canada, in the provinces of Nunavut and the Northwest Territories. They exist in the Canadian Arctic Islands and coastal Greenland, but live mainly on the islands of the Canadian archipelago. The four populations of Peary caribou are generally delineated as follows: (1) Queen Elizabeth Islands, (2) Banks Island and NW Victoria Island, (3) Prince of Wales and Somerset Islands, and (4) Boothia Peninsula (COSEWIC 2004, p. 19). This subspecies is rarely found on the mainland (COSEWIC 2004, pp. 13-14). Their habitat spans 800,000 km² (308,882 mi ²) between 20 Queen Elizabeth islands and the other 3 island groups listed above (COSEWIC 2004, pp. vi, 19). Other than subsistence hunting when allowed, the Peary subspecies is generally not directly affected by human activities due to the remoteness of their habitat (COSEWIC 2004, p. 50).

The historical population and population trends are difficult to estimate due to differences in survey methodology, the remoteness of their island habitat, and the movements of Peary caribou between islands, and the taxonomic uncertainty prior to 2004. An assessment completed in 1991 indicated that between 1961 and 1987 the population of Peary caribou likely decreased by 86 percent (Miller 1991). COSEWIC further estimates that in the last 40 years, Peary caribou have declined 84 percent (COSEWIC 2004, pp. 36-37). In 2004, the total population estimate for Peary caribou was 7,890 individuals, including calves (COSEWIC 2004, p. 62). Although population estimates for the Peary caribou have been typically unreliable, in part due to the remoteness of the species, the 2004 estimate is believed to be fairly accurate.

Habitat Characteristics

Peary caribou migrate between the various islands based on availability of vegetation, and may recolonize islands that were abandoned in previous years (Ferguson and Messier 2000, p. 173). They have been documented migrating up to 450 km (280 mi) between islands in search of food and calving grounds (COSEWIC 2004, pp. 19, 30). Peary caribou migrate from northwestern Victoria Island to the Minto Inlet area (Gunn and Fournier 2000, pp. 15-57). However, some caribou remain faithful to one particular island despite the absence of food sources (Miller 2002 in COSEWIC 2004, p. 30). It is unclear why some caribou migrate and others do not, but the majority of caribou engage in some degree of migration.

Conservation Status

As of 2004, the Peary caribou is assessed as “endangered” by the Canadian Government (COSEWIC 2004, p. 19). Neither subspecies addressed in this finding is listed on any appendices of the Convention on International Trade in Endangered Species of Wild Fauna and Flora (CITES). Caribou are protected by land claim agreements within Canada, and hunts are managed by regulatory entities such as the Nunavut Wildlife Management Board (NWMB) and hunting and trapping associations (COSEWIC 2004, p. 61). Native tribes who hunt caribou for subsistence have voluntarily placed moratoriums on hunts in the past; as of 2004, a moratorium was still in place. Peary caribou have been assessed as endangered since 1996 by the International Union for Conservation of Nature (IUCN).

Dolphin and Union Caribou

Description

The Dolphin and Union caribou is generally larger than Peary caribou but smaller than the mainland population of barren-ground caribou (R. t. groenlandicus). The pelage (coloring) of Dolphin and Union caribou is slightly darker than Peary caribou and their antler velvet is grey (like the Peary caribou) but is distinct from mainland barren-ground caribou, which do not have grey antler velvet.

Distribution and Population

The Dolphin and Union caribou primarily reside on the southern part of Victoria Island and its range does not overlap with Peary caribou. Seasonally, they cross the frozen ice of the Dolphin and Union Strait to winter on the mainland. Their range consists of the lower part of Victoria Island (excluding northwestern Victoria Island), and is estimated to be 195,417 km² (75,451 mi ²) and Stefansson Island (4,463 km² (1723 mi ²)).

A 1922 estimate (Anderson, cited in COSEWIC 2004, p. 41) indicated that between 100,000 and 200,000 caribou migrated across the Dolphin and Union Strait to Victoria Island. Using other caribou population densities as a proxy, Manning (1960), indicated that 100,000 was likely a more realistic estimate. In 1973, both subspecies experienced a population crash due to freezing rain and sheets of ice (Miller et al. 1977). In 1980, a survey by Jackimchuck and Carruthers indicated that there were approximately 3,400 Dolphin and Union caribou on Victoria Island (COSEWIC 2004, p. 41). Gunn et al. (2000, p. 43) estimated the southern Victoria Island population to be 14,600 caribou in 1994 and 27,800 caribou in 1997. This herd does not appear to have been surveyed since then. The 2004 COSEWIC report indicates the population is estimated to be approximately 25,000 and the population appears to be stable or increasing (pp. viii and 15).

Conservation Status

As of 2004, the Dolphin and Union caribou is assessed as “Special Concern” (COSEWIC 2004, p. 19) by the Canadian Government. It is not listed on any CITES appendices. Hunts are managed by boards such as the NWMB, the Canadian Department of Environment, and hunting associations (COSEWIC 2004, p. 61). Indigenous tribes who hunt caribou for subsistence have voluntarily placed moratoriums on hunts in the past. IUCN in 2008 listed R. tarandus at the species level, as least concern. The IUCN criteria are designed for global taxon assessments (IUCN 2003, p. 1). Before assessments of taxa below the species level (subspecies, variety or subpopulation) can be included on the IUCN Red List, an assessment of the full species is required. No assessment has been made of this subspecies by the IUCN.

Evaluation of Information for This Finding

Section 4 of the Act (16 U.S.C. 1533) and its implementing regulations at 50 CFR 424 set forth the procedures for adding a species to, or removing a species from, the Federal Lists of Endangered and Threatened Wildlife and Plants. A species may be determined to be an endangered or threatened species due to one or more of the five factors described in section 4(a)(1) of the Act: (A) The present or threatened destruction, modification, or curtailment of its habitat or range; (B) overutilization for commercial, recreational, scientific, or educational purposes; (C) disease or predation; (D) the inadequacy of existing regulatory mechanisms; or (E) other natural or manmade factors affecting its continued existence.

Following is a threats assessment in which we evaluate whether any of these factors threaten or endanger these two subspecies. This evaluation is specific to each subspecies unless specified that the evaluation is for both subspecies. In making this 90-day finding, we evaluated whether information regarding threats to both the Peary and Dolphin and Union subspecies, as presented in the petition and based on other information available in our files, is substantial, thereby indicating that the petitioned action may be warranted. Our evaluation of this information is presented below.

Peary Caribou

A. The Present or Threatened Destruction, Modification, or Curtailment of the Peary Caribou's Habitat or Range

The petitioner asserts that global climate change due to global warming presents the largest threat to the Peary caribou's habitat in that previously frozen water surrounding the Queen Elizabeth Islands will become navigable to large ships associated with shipping and oil exploration and these ships will threaten caribou movement. In this finding, we will evaluate climate change threats under Factor E. Other Natural or Manmade Factors Affecting the Species' Continued Existence. Climate change was the only stressor asserted as having an effect on this subspecies under Factor A by the petitioner. Although we determined that the petition does not present substantial information indicating that listing the Peary caribou as endangered or threatened may be warranted under factor A, we intend to assess the present or threatened destruction, modification, or curtailment of the Peary caribou's habitat or range more thoroughly during the status review.

B. Overutilization for Commercial, Recreational, Scientific, or Educational Purposes

The petitioner does not indicate that overutilization for commercial, recreational, scientific or educational purposes is currently contributing to the decline of the Peary caribou. Nor do we have other data in our files that this factor is a threat to the Peary caribou. Therefore, we determine that the petition does not present substantial information that the petitioned action may be warranted due to overutilization for commercial, recreational, scientific, or educational purposes.

C. Disease or Predation

The petitioner acknowledged that disease is not thought to be a significant factor affecting either subspecies of caribou addressed in this finding. We concur with the petitioner that, based on the information provided with the petition and information available in our files, disease is not currently a threat to either subspecies.

The petitioner asserted that if climate change caused significant increases in snowfall, caribou could be more susceptible to attacks by wolves. We acknowledge that caribou are preyed upon by various predators such as wolves. However, information presented in the petition and available in our files does not indicate that the effect of increased predation by predators would increase such that it rises to the level of a threat to either subspecies (Miller 1998, in COSEWIC 2004, p. 50; Gunn 2005, pp. 10-11, 39-41). Therefore, we determined that the petition does not present substantial information that the petitioned action may be warranted due to disease or predation. However, all factors, including threats from disease or predation, will be evaluated when we conduct our status review.

D. The Inadequacy of Existing Regulatory Mechanisms

The petitioner asserts that the regulatory mechanisms with respect to climate change are inadequate to protect both the Peary caribou and the Dolphin and Union caribou. Because this factor is applicable to both subspecies, this evaluation under Factor D applies to both subspecies in this finding. The petitioner indicates that the inadequacy of existing regulatory mechanisms with respect to global climate change is the gravest threat to the long-term survival of these two subspecies. The petitioner discussed the ineffectiveness of various regulatory mechanisms associated with climate change such as the United Nations Framework Convention on Climate Change (UNFCCC), the Kyoto Protocol, and United States climate initiatives.

Currently, there are no regulatory mechanisms in place that effectively address climate change and associated changes in habitat or sea-ice or greenhouse gas (GHG) emissions. International efforts to address climate change began with the UNFCCC, which was adopted in May 1992. The UNFCCC's objective is stabilization of GHG concentrations in the atmosphere at a level that would prevent dangerous anthropogenic interference with the climate system, but it does not impose any mandatory and enforceable restrictions on GHG emissions. The Kyoto Protocol became the first agreement to set GHG emissions targets for signatory counties, but the targets are not mandated. Current international efforts to regulate GHG emissions are focused on emissions targets, monitoring requirements, and voluntary actions. None of these mechanisms establish mandatory requirements limiting the amount of GHG that may be emitted. For several decades, the surface air temperatures in the Arctic have warmed at approximately twice the global rate (Christensen et al. 2007, p. 904). The observed and projected effects of climate change are most extreme during summer in northern high-latitude regions, in large part due to the ice-albedo (reflective property) feedback mechanism, in which melting of snow and sea ice lowers surface reflectivity, thereby further increasing surface warming from absorption of solar radiation.

The petitioner provided information with the petition that states that climate change may result in irregular winter events such as freezing rain or heavy snow accumulation, which may not allow caribou access to vegetation (COSEWIC 2004, pp. 51-52). Both subspecies of caribou forage by pushing snow away from vegetation and by breaking through hard-packed snow to reach vegetation. If these conditions occur, both species could suffer widespread starvation (Miller and Gunn, 2003, p. 6). Energetic costs will increase if they have to travel greater distances to locate food. Over time, poor body condition could lead to lower reproductive rates, greater susceptibility to disease or predation, and possibly higher mortality rates. Currently, there are no regulatory mechanisms in place that effectively address a warming climate and its consequences for both subspecies of caribou addressed in this finding due to associated changes in habitat. Accordingly, we conclude that there is substantial information presented in the petition or readily available in our files to indicate that regulatory mechanisms in place may be inadequate to effectively address changes in habitat or sea-ice habitat relied upon by these two subspecies of caribou. We find that the information provided presents substantial information indicating that the petitioned action may be warranted for both subspecies due to increased snowfall events and freezing rain based on the inadequacy of existing regulatory mechanisms. We will evaluate this factor further for each subspecies during the status review.

E. Other Natural or Manmade Factors Affecting the Subspecies' Continued Existence

The petitioner states that global warming due to global climate change presents the largest threat to both subspecies of caribou. The petitioner asserts that the Arctic is warming more rapidly than other areas on the globe. If warming occurs, there may be less sea ice available for crossing from one island to another in search of vegetation (COSEWIC 2004, pp. 54-55; Atkinson et al. 2006, pp. 350, 355, 357). The petitioner asserts that climate change will cause Peary caribou to use more energy in search of food by migrating farther. Some of the information provided with the petition supports these assertions (Thomas 1982, pp. 597-602; Struzik 1998, pp. 38-44). Both subspecies of caribou forage by pushing snow away from vegetation and by breaking through hard-packed snow to reach vegetation. The petitioner provided information with the petition that states that climate change may result in irregular winter events such as freezing rain or heavy snow accumulation, which may not allow caribou access to vegetation (COSEWIC 2004, pp. 51-52). If these conditions occur, both species could suffer widespread starvation (Miller and Gunn, 2003, p. 6). This type of starvation has been the primary cause of decline in the past. The extreme mortality events—between 1973 and 1974 and between 1994 and 1997—coincided with extremely heavy snowfall, deep snow packs, and heavy icing in those same years (Miller and Gunn 2003, pp. 5-6). After reviewing the information provided in the petition and available in our files, we find that the information provided presents substantial information indicating that the petitioned action may be warranted for both subspecies due to increased snowfall events and freezing rain.

Low genetic diversity was an issue raised by the petitioner as a stressor on the subspecies. We will further evaluate this during the status review.

Dolphin and Union Caribou

A. The Present or Threatened Destruction, Modification, or Curtailment of the Dolphin and Union Caribou's Habitat or Range

The petitioner states that the waters of the Dolphin and Union Strait will become navigable to large ships in the near future based on decreased sea ice due to global warming, and that these ships will disrupt caribou movement. The petitioner suggested that shipping traffic has, in the past, interrupted the migration of the Dolphin and Union caribou. Other than expression of concern, the supporting information did not indicate that this increase in shipping traffic has had a negative impact on the subspecies (COSEWIC 2004, pp. 46-47). The petitioner also suggests that caribou will be adversely affected by the increasing development associated with shipping and oil exploration. Although oil development and increased shipping may occur, there is no evidence that it will have a significant effect on caribou. After reviewing the information provided in the petition and available in our files, it does not support the claim that oil exploration, and an increase in shipping, development, and related human activity will affect the Dolphin and Union caribou's habitat.

The petitioner provides no other information addressing Factor A, and we have no information in our files indicating that listing the subspecies due to the present or threatened destruction, modification, or curtailment of the Dolphin and Union caribou's habitat or range may be warranted. Therefore, we find that the petition does not present substantial information to indicate that the petitioned action may be warranted based on the present or threatened destruction, modification, or curtailment of its habitat or range.

B. Overutilization for Commercial, Recreational, Scientific, or Educational Purposes

The petitioner identifies hunting of the Dolphin and Union caribou as a possible factor in the decline of this subspecies. The petition reports that this subspecies is hunted by the Inuit for subsistence, and it is also hunted commercially along the mainland on the north coast bordering the Dolphin and Union Strait. Various management units such as the NWMB, the Wildlife Management Advisory Council for the Inuvialuit Settlement Region in the Northwest Territories, the Canadian Department of Environment, and the Inuit and Inuvialuit tribes play a role in the regulation of hunting of the various caribou populations at the larger scale. At more local scales, committees and trapper associations are involved in monitoring caribou. Hunting has not been implicated as a causative factor in any of the major caribou die-offs. The hunting of this subspecies appears to be sufficiently managed by the local hunting boards, the local indigenous peoples of Canada such as the Inuit and Inuvialuit, who are allowed to hunt caribou for subsistence. Based on the information available in the petition and in our files, hunting does not appear to be causing a decline in the Dolphin and Union caribou.

The petitioner did not indicate any other threats under this factor. After reviewing the information provided in the petition and available in our files, we find that the information provided does not present substantial information indicating that the petitioned action may be warranted due to overutilization for commercial, recreational, scientific, or educational purposes.

C. Disease or Predation

Refer to the discussion under Factor C above for Peary caribou for additional information. Based on the information provided in the petition and available in our files, we find that the petition does not present substantial information indicating that listing the Dolphin and Union caribou as endangered or threatened may be warranted due to disease or predation.

D. The Inadequacy of Existing Regulatory Mechanisms

Refer to the discussion under Factor D above for Peary caribou for additional information. After reviewing the information provided in the petition and available in our files, we find that the information provided presents substantial information indicating that listing the Dolphin and Union caribou as endangered or threatened may be warranted due to the inadequacy of existing regulatory mechanisms.

E. Other Natural or Manmade Factors Affecting the Continued Existence of Dolphin and Union Caribou

The petitioner states that global climate change presents the greatest threat to the Dolphin and Union caribou's habitat. We currently do not know the extent of the subspecies' capacity to adapt to potential changes in its habitat resulting from climate change. However, there is an upward trend in temperature which may decrease sea ice in the Dolphin and Union Strait (refer to discussion above). This subspecies crosses the sea ice in the Strait seasonally, and this decrease in sea ice may affect the species' migration patterns and availability to access food sources. Seasonally, herds congregate at the edge of the Strait while waiting for the ice to form. Energetic costs will increase if they have to travel greater distances to locate food sources, and foraging efficiency is reduced. Over time, poor body condition could lead to lower reproductive rates, greater susceptibility to disease or predation, and ultimately higher mortality rates. The loss of seasonal ice across the Dolphin and Union Strait could reduce access to traditional foraging areas and it may increase competition among individuals for food resources in areas close to staging grounds. After reviewing the information provided in the petition and available in our files, we find that the information provided presents substantial information indicating that the petitioned action may be warranted due to changes in sea ice (also refer to the discussion under Factor E above for Peary caribou). We intend to investigate the effects of climate change, particularly the changes in sea ice, on the Dolphin and Union caribou during the status review.

Finding

On the basis of our evaluation under section 4(b)(3)(A) of the Act, we find that the petition presents substantial scientific or commercial information indicating that listing both the Peary and Dolphin and Union caribou as endangered or threatened may be warranted. This finding is based on information evaluated under factors D and E for both subspecies. Because we have found that the petition presents substantial information indicating that listing these two subspecies may be warranted, we are initiating a status review to determine whether listing these two subspecies of caribou as endangered or threatened under the Act is warranted.

References Cited

A complete list of references cited is available on the Internet at http://www.regulations.gov and upon request from the Branch of Foreign Species, Endangered Species Program, U.S. Fish and Wildlife Service (see FOR FURTHER INFORMATION CONTACT).

Authors

The primary authors of this notice are the staff members of the Branch of Foreign Species, Endangered Species Program, U.S. Fish and Wildlife Service (see FOR FURTHER INFORMATION CONTACT).

Authority: The authority for this action is the Endangered Species Act of 1973, as amended (16 U.S.C. 1531 et seq.).

Dated: March 11, 2011.
Rowan W. Gould,
Acting Director, U.S. Fish and Wildlife Service.

[FR Doc. 2011-7653 Filed 4-4-11; 8:45 am]

BILLING CODE 4310-55-P